DEPARTMENT OF TRANSPORTATION

Federal Railroad Administration

[Docket No. FRA 2011-001-N-16]

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking renewal of the following currently approved information collection activities. Before submitting these information collection requirements for clearance by the Office of Management and Budget (OMB), FRA is soliciting public comment on specific aspects of the activities identified below.

DATES: Comments must be received no later than January 17, 2012.

ADDRESSES: Submit written comments on any or all of the following proposed activities by mail to either: Ms. Janet Wylie, Office of Planning and Administration, RPD-3, Federal Railroad Administration, 1200 New Jersey Ave. SE., Mail Stop 20, Washington, DC 20590, or Ms. Kimberly Toone, Office of Information Technology, RAD-20, Federal Railroad Administration, 1200 New Jersey Ave. SE., Mail Stop 35, Washington, DC 20590. Commenters requesting FRA to acknowledge receipt of their respective comments must include a self-addressed stamped postcard stating, “Comments on OMB control number 2130-0548.” Alternatively, comments may be transmitted via facsimile to (202) 493-6170, or via email to Mr. Wylie at janet.wylie@dot.gov, or to Ms. Toone at kim.toone@dot.gov. Please refer to the assigned OMB control number in any correspondence submitted. FRA will summarize comments received in response to this notice in a subsequent notice and include them in its information collection submission to OMB for approval.

FOR FURTHER INFORMATION CONTACT: Ms. Janet Wylie, Office of Planning and Administration, RPD-3, Federal Railroad Administration, 1200 New Jersey Ave, SE., Mail Stop 20, Washington, DC 20590 (telephone: (202) 493-6353) or Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, § 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) Whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the information collection activities that FRA will submit for clearance by OMB as required under the PRA:

Title: Railroad Rehabilitation and Improvement Financing Program.

OMB Control Number: 2130-0548.

Status: Regular Review.

Type of Request: Extension without change of a previously approved collection.

Abstract: Title V of the Railroad Revitalization and Regulatory Reform Act of 1976 (Act), 45 U.S.C. 821 et seq., authorized the Federal Railroad Administration (FRA) to provide railroads financial assistance through the purchase of preference shares, and the issuance of loan guarantees. Section 7203 of the Transportation Equity Act for the 21st Century of 1998, Public Law 105-178 (1998) (TEA 21), and subsequent amendments in the Safe, Accountable, Flexible, Efficient Transportation Equity Act: A Legacy for Users, Public Law 109-59 (2005) SAFETEA-LU and the Rail Safety Improvement Act of 2008 (RSIA), Division A of Public Law 110-432 have since replaced the previous Title V financing program. On July 6, 2000, FRA published a final rule (FR) with procedures and requirements to cover applications of financial assistance in the form of direct loans and loan guarantees consistent with the changes made to Title V of the Act by section 7203 of TEA 21. On September 29, 2010, FRA published a Notice Regarding Consideration and Processing of Applications for Financial Assistance Under the Railroad Rehabilitation and Improvement Financing (RRIF) Program. The collection of information is used by FRA staff to determine the legal and financial eligibility of applicants for direct loans regarding eligible projects. Eligible projects include: (1) Acquisition, improvement or rehabilitation of intermodal or rail equipment or facilities (including tracks, components of tracks, bridges, yards, buildings, and shops); (2) Refinancing outstanding debt incurred for these purposes; or (3) Development or establishment of new intermodal or railroad facilities. The aggregate unpaid principal amounts of obligations cannot exceed $35.0 billion at any one time, and not less than $7.0 billion is to be available solely for projects benefitting freight railroads other than Class I carriers. The Secretary of Transportation has delegated his authority under the RRIF Program to the FRA Administrator in 1 CFR 1.49.

Affected Public: State and local governments, government sponsored authorities and corporations, railroads, and joint ventures that include at least one railroad.

Reporting Burden
CFR section | Respondent universe | Total annual responses | Average time per response (hours) | Total annual burden hours
260.23—Form and Content of Application | 75,635 potential applicants | 18 applications | 20 | 360
260.25—Additional Information Loan Guarantees | 650 potential | 15 financial documents | 50 | 750
260.31—Execution and Filing of Application | 75,635 potential | 18 executed app | .6 | 10.8
Certificates with Original Application | 75,635 potential | 18 certificates | .6 | 10.8
Transmittal Letters | 75,635 potential | 18 letters | .6 | 10.8
Application Packages | 75,635 potential | 18 packages | 1.5 | 27
260.33—Information Statements | 75,635 potential | 18 statements | *30 | 9
260.35—Environmental Impact Statement | 75,635 potential | 1 Impact Statement | 15,552 | 15,552
Environmental Assessment | 75,635 potential | 2 Assessments | 4,992 | 9,984
Categorical Exclusions | 75,635 potential | 15 exclusions | 176 | 2,640
Environmental Consultations | 75,635 potential | 5 consultations | 1 | 5
260.41—Inspection and Reporting—Financial Records and Other Documents | 75,635 potential | 18 financial records | 10 | 180
* In minutes.

Total Responses: 164.

Estimated Total Annual Burden: 29,539.4.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on November 9, 2011.
Kimberly Coronel,
Director, Office of Financial Management, Federal Railroad Administration.

[FR Doc. 2011-29605 Filed 11-15-11; 8:45 am]

BILLING CODE 4910-06-P